DEPARTMENT OF COMMERCE

National Oceanic and Atmospheric Administration

50 CFR Part 622

[I.D. 010302D]

RIN 0648-AL86

Fisheries of the Caribbean, Gulf of Mexico, and South Atlantic; Comprehensive Sustainable Fishery Act Amendment to the Fishery Management Plans of the U.S. Caribbean

AGENCY: National Marine Fisheries Service (NMFS), National Oceanic and Atmospheric Administration (NOAA), Commerce.

ACTION: Notice of agency action.

SUMMARY: NMFS has disapproved the Comprehensive Amendment Addressing Sustainable Fishery Act Definitions and Other Required Provisions of the Magnuson-Stevens Act in the Fishery Management Plans of the U.S. Caribbean (Comprehensive SFA Amendment) submitted by the Caribbean Fishery Management Council (Council). Under the procedures of the Magnuson-Stevens Fishery Conservation and Management Act (Magnuson-Stevens Act), NMFS determined that the Comprehensive SFA Amendment was inconsistent with the requirements of the Sustainable Fisheries Act of 1996 (SFA) and the National Environmental Policy Act (NEPA).

FOR FURTHER INFORMATION CONTACT: Peter Eldridge, telephone: 727-570-5305; fax: 727-570-5583; e-mail: Peter.Eldridge@noaa.gov.

SUPPLEMENTARY INFORMATION: The SFA requires NMFS and the Councils to comply with new overfishing, rebuilding, and bycatch provisions. Fishery Management Plans (FMPs) are required to assess and specify the present and probable future condition of, and the maximum sustainable yield and optimum yield from each fishery. FMPs must assess and satisfy the nature and extent of scientific data, which is needed for effective implementation of the plan. Also, the SFA requires fishery managers to establish a standardized reporting methodology to assess the amount and type of bycatch occurring in fisheries. Conservation and management measures shall, to the extent practicable, minimize bycatch and, to the extent bycatch cannot be avoided, minimize the mortality of such bycatch.

The Council subsequently developed and submitted a Comprehensive SFA Amendment that addressed SFA requirements for Caribbean FMPs. On January 25, 2002, NMFS published a notice of availability (NOA) of the Comprehensive SFA Amendment to the Caribbean FMPs and requested public comments through March 26, 2002 (67 FR 3679).

On April 25, 2002, after considering extensive comments received during the public comment period for the amendment, NMFS disapproved the Caribbean Comprehensive SFA Amendment primarily because NMFS believes that an environmental impact statement (EIS) should be developed that provides a more comprehensive set of alternatives for SFA parameters, rebuilding schedules, and bycatch reporting standards. A summary of comments received and responses is given below.

Comments and Responses

Three environmental organizations, 60 individual commenters and one petition with 548 individuals listed provided a similar set of comments on the Comprehensive SFA Amendment.

Comment 1: One environmental organization stated, “In its current state, the Comprehensive Amendment violates the SFA, fails to prevent overfishing, fails to rebuild fish populations, and fails to address the fishery's bycatch problem. Hence, in its current state, the Comprehensive Amendment is a major federal action significantly adversely affecting the environment. On the other hand, should NMFS choose to revise the Comprehensive Amendment so as to comply with the SFA, it would be a major federal action significantly benefitting the human environment. Either, way, NMFS must develop an EIS.”

Response: NMFS does not completely endorse all aspects of the comment. Nonetheless, the comment highlights the importance of the Amendment and is persuasive that additional alternatives should be considered to produce a better document. NMFS, working with the Council, intends to develop an EIS on the above issues and incorporate the findings of the EIS into a revised Comprehensive SFA Amendment that will address the concerns noted in public comments.

Comment 2: Two environmental organizations noted that the SFA mandates that fishery managers "establish a standardized reporting methodology to assess the amount and type of bycatch occurring in the fishery." The national standard guidelines also require that “[a] review and, where necessary, improvement of data collection methods, data sources, and application of data must be initiated for each fishery to determine the amount, type, disposition, and other characteristics of bycatch and bycatch mortality in each fishery.” The organizations recommended that the NMFS disapprove this aspect of the Comprehensive SFA Amendment.

Response: NMFS agrees. Bycatch reporting will be addressed in the revised Amendment.

Comment 3: One environmental organization recommended that commercial landings in the U.S. Virgin Islands be reported by species rather than gear. Further, such landings should be reported similar to those in Puerto Rico.

Response: NMFS agrees that commercial landings, wherever possible, should be reported by species or species groups, but notes that this could require additional resources. This issue will be addressed in the revised Amendment.

Comment 4: All commenters objected to the way that the reef fish SFA parameters (maximum sustainable yield, optimum yield, minimum stock size threshold, and maximum fishing mortality threshold) were developed by using only the average landings for the period 1983 through 1999. They noted that landings for many species had declined during that period and that there was reason to believe that some species were either overfished or undergoing overfishing. They believe that the assumption that the current levels of harvest are sustainable is incorrect and would continue overfishing as well as prevent rebuilding of overfished stocks. Further, they recommended that average landings developed from either a 4-year or 8-year time period would provide better results.

Response: Due to the data-poor nature of fisheries in the Caribbean, it is not clear which series of landings data would provide the best SFA proxies. Despite this, it is reasonable to consider alternative series of landings, and this will be done in the revised Amendment.

Comment 5: Commenters noted that the Comprehensive SFA Amendment did not contain regulatory measures that would immediately address overfishing or overfished species. They stated that the Amendment should have and cited this as a deficiency.

Response: Upon consideration of the public comments received, NMFS believes that it would be appropriate to consider regulatory measures, including rebuilding schedules, in the revised Amendment that would address overfishing and overfished species. It should be noted that Amendment 2 to the Queen Conch FMP, currently under development, would prohibit the possession and harvest of queen conch in the EEZ until this resource is rebuilt.

Authority: 16 U.S.C. 1801 et seq.

Dated: April 25, 2002.
William T. Hogarth,
Assistant Administrator for Fisheries, National Marine Fisheries Service.

[FR Doc. 02-10692 Filed 4-30-02; 8:45 am]

BILLING CODE 3510-22-S